DEPARTMENT OF ENERGY

Federal Energy Regulatory Commission

[Project No. 9185-000]

Notice of Intent To File for New License

April 16, 2002.

a. Type of Filing: Notice of Intent to File an Application for New License.

b. Project No.: 9185-000.

c. Date Filed: April 1, 2002.

d. Submitted By: Flambeau Hydro, LLC—current licensee.

e. Name of Project: Clam River Hydroelectric Project.

f. Location: On the Clam River near the City of Danbury, in Burnett County, Wisconsin. The project does not occupy Federal lands.

g. Filed Pursuant to: Section 15 of the Federal Power Act.

h. Licensee Contact: Loyal Gake, Flambeau Hydro, LLC, P.O. Box 167, 116 State Street, Neshkoro, WI 54960 (920) 293-4628.

i. FERC Contact: Tom Dean, thomas.dean@ferc.gov, (202) 219-2778.

j. Effective date of current license: April 1, 1957.

k. Expiration date of current license: March 31, 2007.

l. Description of the Project: The project consists of the following existing facilities: (1) a 40-foot-high, 54-foot-long dam with spillway section; (2) an 898-foot-long earth dike on the left side of the spillway, and a 223-foot-long earth dike on the right side; (3) a reservoir with a storage capacity of 3,825 acre-feet at a maximum pool elevation of 898.95 feet msl; (4) a powerhouse containing three generating units with a total installed capacity of 1,200 kW; (5) a 100-foot-long, 2.4 kV transmission line; and (6) other appurtenances.

m. Each application for a license and any competing license applications must be filed with the Commission at least 24 months prior to the expiration of the existing license. All applications for license for this project must be filed by March 31, 2005.

n. Copies of this filing are on file with the Commission and are available for public inspection. This filing may also be viewed on the web at http://www.ferc.gov using the “RIMS” link, select “Docket#” and follow the instructions (call 202-208-2222 for assistance). A copy is also available for inspection and reproduction by contacting the applicant identified in item h above.

Magalie R. Salas,
Secretary.

[FR Doc. 02-9768 Filed 4-19-02; 8:45 am]

BILLING CODE 6717-01-P